FEDERAL COMMUNICATIONS COMMISSION

47 CFR Part 101

24 GHz Service; Licensing and Operation

CFR Correction

In Title 47 of the Code of Federal Regulations, Part 80 to End, revised as of October 1, 2003, in § 101.509, in the first sentence of paragraph (e), “-14 dBW/m²” is corrected to read “-114 dBW/m²”.

[FR Doc. 04-55507 Filed 5-5-04; 8:45 am]

BILLING CODE 1505-01-D